DEPARTMENT OF TRANSPORTATION

National Highway Traffic Safety Administration

Research and Development Programs Meeting

AGENCY: National Highway Traffic Safety Administration, DOT.

ACTION: Notice.

SUMMARY: This notice announces and provides the agenda for a public meeting at which the National Highway Traffic Safety Administration (NHTSA) will describe and discuss specific research and development projects.

DATES AND TIMES: The National Highway Traffic Safety Administration will hold a public meeting devoted primarily to presentations of specific research and development projects on June 15, 2000, beginning at 1:30 p.m. and ending at approximately 4:30 p.m. Questions may be submitted in advance regarding the agency's research and development projects. Questions must be submitted in writing by June 5, 2000, to the Office of the Associate Administrator for Research and Development, NHTSA, at the mailing address, E-mail address, or fax number given below. If sufficient time is available, questions received after June 5, 2000, will be answered at the meeting during the discussion period. The individual, group, or company asking a question does not have to be present for the question to be answered. A consolidated list of answers to questions submitted by June 5, 2000, will be available at the meeting and will be mailed to requesters after the meeting.

ADDRESSES: The meeting will be held at NHTSA's Vehicle Research and Test Center (VRTC), East Liberty, Ohio 43319. Directions to VRTC, as well as this Federal Register notice, will be available on NHTSA's Web site, at Announcements/Public Meetings at URL http://www.nhtsa.dot.gov/nhtsa/announce/meetings/, or by contacting Susie Weiser at VRTC, East Liberty, Ohio, at (937) 666-4511. Questions for the June 15, 2000, meeting relating to the agency's research and development programs should be submitted to the Office of the Associate Administrator for Research and Development, NRD-01, National Highway Traffic Safety Administration, Room 6206, 400 Seventh St., SW., Washington, DC 20590. The fax number is (202) 366-5930.

SUPPLEMENTARY INFORMATION: In recent years, since April 1993, NHTSA has provided detailed information about its research and development programs in presentations at a series of public meetings. The purpose is to make available more complete and timely information regarding the agency's research and development programs. This is the twenty-sixth meeting in that series, and it will be held on June 15, 2000, at the Vehicle Research and Test Center, East Liberty, Ohio 43319. To expedite clearance into the VRTC facility, persons who plan to attend the public meeting should contact Susie Weiser, VRTC, East Liberty, Ohio, at (937) 666-4511 by close of business June 13, 2000.

Beginning at 1:30 p.m. and concluding by 4:30 p.m., NHTSA's Office of Research and Development will discuss the following topics:

(1) Overview of Effort to Ready New Test Dummies for Federal Motor Vehicle Safety Standard No. 208;

(2) Preliminary Observations from Side Impact Air Bag Testing;

(3) Preliminary Test Results from School Bus Restraint Testing; and

(4) Status and Overview of NHTSA's Antilock Brake System (ABS) Program.

Based upon time and interest, tours may be given of the Transportation Research Center of Ohio and VRTC facilities. Attendees should indicate interest in this when providing their names for the meeting to Susie Weiser, VRTC, East Liberty, Ohio, at (937) 666-4511 by close of business June 13, 2000.

Additionally, if any interested parties would like to make a presentation regarding technical issues concerning any of NHTSA's research programs, information concerning the proposed topic and speaker should be submitted in writing to the Associate Administrator for Research and Development, NHTSA, at the mailing address or telefax number given below by 5 p.m. on June 5, 2000.

Any questions regarding research projects that have been submitted in writing not later than 5 p.m. on June 5, 2000, will be answered at the public meeting. The summary minutes of the meeting, copies of materials handed out at the meeting, and answers to the questions submitted for response at the meeting will be available for public inspection in the DOT Docket in Washington, DC, within 3 weeks after the meeting. Copies of this material will then be available at ten cents a page upon request to DOT Docket, Room PL-401, 400 Seventh Street, SW., Washington, DC 20590. The DOT Docket is open to the public from 10 a.m. to 5 p.m. The summary minutes, handouts, and answers to the previously submitted questions will also be available on NHTSA's Web site at Announcements/Public Meetings at URL http://www.nhtsa.dot.gov/nhtsa/announce/meetings/.

NHTSA will provide technical aids to participants as necessary, during the Research and Development Programs Meeting. Thus, any person desiring the assistance of “auxiliary aids” (e.g., sign-language interpreter, telecommunication devices for deaf persons (TTDs), readers, taped texts, braille materials, or large print materials and/or a magnifying device), please contact Rita Gibbons by telephone on (202) 366-4862, by telefax on (202) 366-5930, or by E-mail at rgibbons@nhtsa.dot.gov by 5 p.m. June 5, 2000.

Should it be necessary to cancel the meeting due to inclement weather or to any another emergencies, a decision to cancel will be made as soon as possible and posted immediately on NHTSA's Web site at Announcements/Public Meetings at URL http://www.nhtsa.dot.gov/nhtsa/announcements/meetings/. If you do not have access to the Web site, you may call the information contact listed below and leave your telephone or telefax number. You will be called only if the meeting is postponed or canceled.

The next public meeting to discuss NHTSA's research and development projects is scheduled for September 14, 2000, at the Tysons Westpark Hotel, 8401 Westpark Drive, McLean, Virginia. The meeting will begin at 1:30 p.m. and will end at approximately 4:30 p.m.

FOR FURTHER INFORMATION CONTACT: Rita Gibbons, Staff Assistant, Office of Research and Development, 400 Seventh Street, S.W., Washington, DC 20590. Telephone: (202) 366-4862. Fax number: (202) 366-5930. E-mail: rgibbons@nhtsa.dot.gov.

Issued: May 4, 2000.
Raymond P. Owings,
Associate Administrator for Research and Development.

[FR Doc. 00-11694 Filed 5-9-00; 8:45 am]

BILLING CODE 4910-59-P